NUCLEAR REGULATORY COMMISSION

[Docket No. 40-08502-MLR; ASLBP No. 09-887-01-MLR-BD01]

Cogema Mining, Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Cogema Mining, Inc. Irigaray and Christensen Ranch Facilities (License Renewal for Source Materials License SUA-1341)

This Board is being established in response to requests for hearing that were filed pursuant to a Notice of Request to Renew Source Materials License SUA-1341, COGEMA Mining, Inc., Irigaray and Christensen Ranch Facilities, Johnson and Campbell Counties, WY, and Opportunity to Request a Hearing dated February 9, 2009 (74 FR 6436). Requests for hearing dated April 10, 2009 were filed by: (1) The Powder River Basin Resource Council; and (2) the Oglala Delegation of the Great Sioux Nation Treaty Council (Oglala Delegation), which also seeks “leave to make filings by e-mail due to problems with the NRC's EIE document system encountered by [petitioner's counsel] due to computer system and software incompatibilities” (Pet. for Hearing at 125).¹

¹ The Oglala Delegation's request to make filings by email was initially directed to the Commission. The Secretary of the Commission, in turn, referred the hearing request to the Chief Administrative Judge of the ASLBP for appropriate action. Absent instructions to the contrary, such broad referrals result in the entire hearing request, and all its issues, being referred to a Board for resolution. The Oglala Delegation's request to make filings by e-mail should therefore be resolved by the Board.

The Board is comprised of the following administrative judges:

Alex S. Karlin, Chair, Atomic Safety and Licensing Board Panel, U.S. Nuclear Regulatory Commission, Washington, DC 20555-0001;

Paul B. Abramson, Atomic Safety and Licensing Board Panel, U.S. Nuclear Regulatory Commission, Washington, DC 20555-0001;

William M. Murphy, Atomic Safety and Licensing Board Panel, U.S. Nuclear Regulatory Commission, Washington, DC 20555-0001.

Unless otherwise authorized by the Board, all correspondence, documents, and other materials shall be filed in accordance with the NRC E-Filing Rule, which the NRC promulgated in August 2007 (72 FR 49,139).

Issued at Rockville, Maryland, this 12th day of May 2009.
E. Roy Hawkens,
Chief Administrative Judge, Atomic Safety and Licensing Board Panel.

[FR Doc. E9-11532 Filed 5-15-09; 8:45 am]

BILLING CODE 7590-01-P